OFFICE OF PERSONNEL MANAGEMENT

5 CFR Part 532

RIN 3206-AL76

Prevailing Rate Systems; Redefinition of the Little Rock, AR, Southern Missouri, and Tulsa, OK, Appropriated Fund Federal Wage System Wage Areas

AGENCY: U.S. Office of Personnel Management.

ACTION: Proposed rule with request for comments.

SUMMARY: The U.S. Office of Personnel Management is issuing a proposed rule that would redefine the geographic boundaries of the Little Rock, AR, Southern Missouri, and Tulsa, OK, appropriated fund Federal Wage System (FWS) wage areas. The proposed rule would redefine Crawford and Sebastian Counties, AR, from the Little Rock wage area to the Tulsa wage area and Madison County, AR, and McDonald County, MO, from the Southern Missouri wage area to the Tulsa wage area. These changes are based on recent consensus recommendations of the Federal Prevailing Rate Advisory Committee to best match the counties proposed for redefinition to a nearby FWS survey area. No other changes are proposed for the Little Rock, Southern Missouri, and Tulsa FWS wage areas.

DATES: We must receive comments on or before January 7, 2009.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the Little Rock, AR, Southern Missouri, and Tulsa, OK, appropriated fund Federal Wage System (FWS) wage areas. This proposed rule would redefine Crawford and Sebastian Counties, AR, from the Little Rock wage area to the Tulsa wage area and Madison County, AR, and McDonald County, MO, from the Southern Missouri wage area to the Tulsa wage area.

OPM considers the following regulatory criteria under 5 CFR 532.211 when defining FWS wage area boundaries:

(i) Distance, transportation facilities, and geographic features;

(ii) Commuting patterns; and

(iii) Similarities in overall population, employment, and the kinds and sizes of private industrial establishments.

OPM recently completed reviews of the definitions of the Fayetteville-Springdale-Rogers, AR-MO and Fort Smith, AR-OK Metropolitan Statistical Areas (MSAs) and, based on analyses of the regulatory criteria for defining wage areas, is proposing the changes described below. The Federal Prevailing Rate Advisory Committee (FPRAC), the national labor-management committee responsible for advising OPM on matters concerning the pay of FWS employees, recommended these changes by consensus. FPRAC recommended no other changes in the geographic definitions of the Little Rock, Southern Missouri, and Tulsa wage areas. The affected employees in Crawford, Madison, and Sebastian Counties, AR, and McDonald County, MO, would be placed on the wage schedule for the Tulsa wage area on the first day of the first applicable pay period beginning on or after 30 days following publication of the final regulations.

Fayetteville-Springdale-Rogers, AR-MO MSA: Benton, Madison, and Washington Counties, AR, and McDonald County, MO, comprise the Fayetteville-Springdale-Rogers, AR-MO MSA. The Fayetteville-Springdale-Rogers MSA is split between the Little Rock, AR, Southern Missouri, and Tulsa, OK, wage areas. Madison County is part of the area of application of the Little Rock wage area, McDonald County is part of the area of application of the Southern Missouri wage area, and Benton and Washington Counties are part of the area of application of the Tulsa wage area.

Based on an analysis of the regulatory criteria for Washington County, the location of the main population center in the Fayetteville-Springdale-Rogers MSA, we recommend that the entire Fayetteville-Springdale-Rogers MSA be defined to the Tulsa wage area. The distance criterion for Washington County favors the Tulsa wage area more than Little Rock or Southern Missouri wage areas. All other criteria are inconclusive. We believe our regulatory analysis findings indicate that Washington County is appropriately defined to the Tulsa wage area. OPM regulations at 5 CFR 532.211 permit splitting MSAs only in very unusual circumstances (e.g., organizational relationships among closely located Federal activities). There appear to be no unusual circumstances that would permit splitting the Fayetteville-Springdale-Rogers MSA. To comply with OPM regulations not to split MSAs, Madison and McDonald Counties would be redefined to the Tulsa wage area. The remaining county in the Fayetteville-Springdale-Rogers MSA, Benton County, is already defined to the Tulsa wage area.

Fort Smith, AR-OK MSA: Crawford, Franklin, and Sebastian Counties, AR, and Le Flore and Sequoyah Counties, OK, comprise the Fort Smith, AR-OK MSA. The Fort Smith MSA is split between the Little Rock, AR, wage area and the Tulsa, OK, wage area. Crawford, Franklin, and Sebastian Counties are part of the area of application of the Little Rock wage area, and Le Flore and Sequoyah Counties are part of the area of application of the Tulsa wage area.

Based on an analysis of the regulatory wage area criteria in 5 CFR 532.211, we recommend that Crawford and Sebastian Counties be redefined to the Tulsa area of application. The distance criterion favors the Tulsa wage area more than the Little Rock wage area. All other criteria are inconclusive. Based on the mixed nature of our regulatory analysis findings, there is no clear indication that Crawford or Sebastian Counties should be placed in a different FWS wage area. However, since OPM regulations at 5 CFR 532.211 permit splitting MSAs only in very unusual circumstances (e.g., organizational relationships among closely located Federal activities) and the Fort Smith MSA is adjacent to the Tulsa survey area but not adjacent to the Little Rock survey area, we recommend that Crawford and Sebastian Counties be redefined to the Tulsa wage area.

Based on an analysis of the regulatory wage area criteria, we recommend that Franklin County remain part of the Little Rock area of application. When measuring from cities, the distance criterion favors the Little Rock wage area. When measuring from host installations, the distance criterion favors the Tulsa wage area. All other criteria are inconclusive. Based on our regulatory analysis findings, there is no clear indication that Franklin County should be placed in a different FWS wage area. In addition, the western part of the Ozark National Forest is located in portions of Crawford and Franklin Counties. There are no FWS employees working in Crawford County, but there are nine FWS Forest Service employees working in Franklin County. OPM regulations at 5 CFR 532.211 permit splitting MSAs in unusual circumstances. Since there are FWS Forest Service employees working at Ozark National Forest locations in closely located counties, we recommend that Franklin County remain defined to the Little Rock wage area. This would continue to provide equal pay treatment for FWS employees with employment locations in the Forest.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Michael W. Hager,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of Arkansas is amended by revising the listing for Little Rock; for the State of Missouri, by revising the listing for Southern Missouri, and for the State of Oklahoma, by revising the listing for Tulsa, to read as follows:

Appendix C to Subpart B of Part 532—Appropriated Fund Wage and Survey Areas

* * * * *

Arkansas
Little Rock
Survey Area
Arkansas:
Jefferson
Pulaski
Saline
Area of Application. Survey area plus:
Arkansas:
Arkansas
Ashley
Baxter
Boone
Bradley
Calhoun
Chicot
Clay
Clark
Cleburne
Cleveland
Conway
Dallas
Desha
Drew
Faulkner
Franklin
Fulton
Garland
Grant
Greene
Hot Spring
Independence
Izard
Jackson
Johnson
Lawrence
Lincoln
Logan
Lonoke
Marion
Monroe
Montgomery
Newton
Ouachita
Perry
Phillips
Pike
Polk
Pope
Prairie
Randolph
Scott
Searcy
Sharp
Stone
Union
Van Buren
White
Woodruff
Yell
* * * * *
Missouri
* * * * *
Southern Missouri
Survey Area
Missouri:
Christian
Greene
Laclede
Phelps
Pulaski
Webster
Area of Application. Survey area plus:
Missouri:
Barry
Barton
Benton
Bollinger
Butler
Camden
Cape Girardeau
Carter
Cedar
Dade
Dallas
Dent
Douglas
Hickory
Howell
Iron
Jasper
Lawrence
Madison
Maries
Miller
Mississippi
Moniteau
Morgan
New Madrid
Newton
Oregon
Ozark
Perry
Polk
Reynolds
Ripley
St. Clair
Scott
Shannon
Stoddard
Stone
Taney
Texas
Vernon
Wayne
Wright
Kansas:
Cherokee
Crawford
* * * * *
Oklahoma
* * * * *
Tulsa
Survey Area
Oklahoma:
Creek
Mayes
Muskogee
Osage
Pittsburg
Rogers
Tulsa
Wagoner
Area of Application. Survey area plus:
Oklahoma:
Adair
Cherokee
Choctaw
Craig
Delaware
Haskell
Kay
Latimer
Le Flore
McCurtain
McIntosh
Nowata
Okfuskee
Okmulgee
Ottawa
Pawnee
Pushmataha
Sequoyah
Washington
Arkansas:
Benton
Carroll
Crawford
Madison
Sebastian
Washington
Missouri:
McDonald

* * * * *

[FR Doc. E8-28916 Filed 12-5-08; 8:45 am]

BILLING CODE 6325-39-P